DEPARTMENT OF HEALTH AND HUMAN SERVICES

Centers for Disease Control and Prevention

[Program Announcement Number 01030]

Traumatic Brain Injury Surveillance; Notice of Availability of Funds

A. Purpose

The Centers for Disease Control and Prevention (CDC), announces the availability of fiscal year (FY) 2001 funds for a cooperative agreement program for Central Nervous System Injury Surveillance activities, consisting of the following parts: Core Traumatic Brain Injury (TBI) Surveillance (Part A); and Enhanced TBI Surveillance (Part B). This Program addresses the “Healthy People 2010” focus areas for Injury and Violence Prevention. The purpose of the program is to develop and sustain injury surveillance programs with a focus on central nervous system injuries, particularly TBI. The goal of this program is to produce data of demonstrated quality that will (a) be useful to State injury prevention and control programs and (b) enable national estimates of TBI incidence and public health consequences.

B. Eligible Applicants

Assistance will be provided only to the official public health departments of States or their bona fide agents, including the District of Columbia, the Commonwealth of Puerto Rico, the Virgin Islands, the Commonwealth of the Northern Mariana Islands, American Samoa, Guam, federally recognized Indian tribal governments, the Federated States of Micronesia, the Republic of the Marshall Islands, and the Republic of Palau.

Applicants must submit one application for either Part A alone or for Parts A and B combined. Applicants cannot apply for Part B only. To be eligible, all applicants must provide evidence of: (a) An existing statewide population-based surveillance system for TBI-related hospitalizations and deaths, (b) the availability of at least one year of data from the TBI surveillance system (describing cases occurring in calendar year 1998 or 1999), and (c) existing legislation and/or regulations that support current collection of necessary TBI data. Applications that fail to submit evidence of (a), (b), and (c) will be considered non-responsive and will be returned without review.

Note: Public Law 104-65 states that an organization, described in section 501(c)(4) of the Internal Revenue Code of 1986, that engages in lobbying activities is not eligible to receive Federal funds constituting an award, grant, cooperative agreement, contract, loan, or any other form.

C. Availability of Funds

Approximately $1,350,000 is available in FY 2001 to fund approximately 12 awards:

Part A: Core TBI Surveillance—Approximately $960,000 is available to fund approximately 12 awards. It is expected that the average award will be $80,000. It is expected that the awards will begin on or about August 1, 2001, and will be made for a 12-month budget period within a project period of up to 3 years. Funding estimates may change.

Part B: Enhanced TBI Surveillance—Approximately $390,000 is available to fund approximately 6 of the 12 above (Part A). It is expected that the average additional award will be $65,000. It is expected that the awards will begin on or about August 1, 2001, and will be made for a 12-month budget period within a project period of up to 3 years. Funding estimates may change.

Applicants must be approved for part A in order to be eligible to receive part B funding.

Continuation awards within an approved project period will be made on the basis of satisfactory progress, as evidenced by required reports, and on the availability of funds.

Note: Funds awarded may not be used to supplant funds available from other sources to the recipient to conduct similar activities. Funding may not be used to provide patient care or management. Funds are not to be used for construction purposes or for rental of office space or for the purchase or rental of furniture or vehicles.

Funding Preferences

During the selection process, CDC may attempt to ensure a balanced geographic distribution of funded TBI surveillance projects.

D. Program Requirements

In conducting activities to achieve the purpose of this program, the recipient will be responsible for the activities under 1. and 2. (Recipient Activities), and CDC will be responsible for the activities listed under 3. (CDC Activities).

1. Recipient Activities for Part A (all recipients):

a. Conduct statewide surveillance of TBI, consistent with standard definitions and methods for core surveillance, described in the current CDC Guidelines for Central Nervous System Injury Surveillance. This includes linking and unduplicating data obtained from State vital records (death certificates and/or multiple-cause-of-death data) and statewide hospital discharge data (or equivalent data), including data elements that describe diagnosis, demographics, external cause, and survival status.

b. Conduct yearly evaluations of the surveillance system to assess the predictive value positive and sensitivity of case ascertainment as well as the completeness and validity of the data collected.

c. Analyze and interpret collected data.

d. Link surveillance activities and findings to State injury prevention and control activities, including CDC Core State Injury Surveillance and Program Development, where applicable.

e. Provide representative(s) to CDC-sponsored meetings for Cooperative Agreement recipients.

2. Additional Recipient Activities for Part B:

a. Review medical records to obtain data for additional variables (e.g., “optional” variables described in the CDC Guidelines), that address severity of injury, circumstances and etiology of injury, and early outcome of injury, in a large representative sample (e.g., n ≉1000) of reported cases of TBI-related hospitalization.

b. Analyze and interpret collected data.

3. CDC Activities:

a. Provide technical assistance, if necessary, for effective project planning and management.

b. Provide technical assistance to evaluate the surveillance system for completeness and validity.

c. Facilitate communication/coordination among States to improve efficiency of activities and quality of data.

d. Coordinate meetings for Cooperative Agreement recipients, to be held annually.

E. Application Content

Use the information in the Program Requirements, Other Requirements, and Evaluation Criteria sections to develop the application content. Your application will be evaluated on the criteria listed, so it is important to follow them in laying out your program plan. The proposal narrative (excluding budget narrative and any appendices) should be no more than 25 double-spaced pages for Part A, or an additional 10-15 pages if also applying for Part B, printed on one side with one inch margins, and no smaller than 12-point font. If applying for Parts A and B, include a separate budget and narratives that are clearly identified as “Part A” and “Part B.” Number each page consecutively and provide a complete table of contents. The entire application with appendices should be no longer than 70 pages total.

Applications should include:

1. Executive Summary (one page, may be single spaced): This section (used to determine eligibility) should briefly summarize:

a. amount of federal assistance requested in dollar amounts for Part A and, if applicable, Part B.

b. existing capacity, i.e., (a) the existence of a statewide population-based surveillance system for TBI-related hospitalizations and deaths, (b) the most recent year for which data from the TBI surveillance system have been analyzed, and (c) existing legislation and/or regulations that support current collection of necessary TBI data.

c. major objectives and activities proposed.

2. Application Narrative:

a. Introduction, review of the literature, and statement of need.

b. Existing TBI surveillance program and capacity.

c. Proposed goals and objectives.

d. Proposed methods and activities.

e. Project management and project staff.

f. Proposed methods to evaluate the attainment of objectives.

g. Description of capacity, methods, activities, and staff specific to Part B, if applicable.

h. Budget narrative, including justification for all proposed expenditures. If applying for part B, submit a separate budget.

F. Submission and Deadline

Letter of Intent (LOI)

Prospective applicants are asked to submit a letter of intent that includes the number and title of the announcement, a descriptive title of the proposed program, the name, address, and telephone number of the Principal Investigator and whether applying for Part A only or Parts A and B. Although a letter of intent is not required, is not binding, and is not used in the review of an application, the information that it contains is used to estimate the potential review workload and avoid any potential conflict of interest in the review. The letter of intent should be submitted on or before April 2, 2001 to the Grants Management Specialist identified in the “Where to Obtain Additional Information” section of this announcement.

Application: Submit the original and 2 copies of PHS 5161-1 (OMB Number 0937-0189). Forms are in the application kit. On or before May 2, 2001, submit the application to the Grants Management Specialist identified in the “Where to Obtain Additional Information” section of this announcement.

Deadline: Applications shall be considered as meeting the deadline if they are either:

(a) Received on or before the deadline date; or

(b) Sent on or before the deadline date and received in time for submission to the objective review panel. (Applicants must request a legibly dated U.S. Postal Service postmark or obtain a legibly dated receipt from a commercial carrier or U.S. Postal Service. Private metered postmarks shall not be acceptable as proof of timely mailing).

Late Applications: Applications which do not meet the criteria in (a) or (b) above are considered late applications, will not be considered, and will be returned to the applicant.

G. Evaluation Criteria

Each application will be evaluated and scored individually by an objective review panel. All applications will be evaluated and scored first for Part A and subsequently, where applicable, for Part B.

Evaluations and scoring for Part A will be conducted according to the following criteria:

1. Review of Literature and Statement of Need: (5 Points)

Consistent with this Program Announcement, the extent to which the applicant reviews key literature relevant to the proposed project, and the extent to which the applicant describes needs within the jurisdiction to which the applications are responsive.

2. Existing TBI Surveillance Program and Capacity: (20 Points)

The extent to which the applicant demonstrates authority to collect and maintain necessary TBI surveillance data. The extent to which the applicant describes an effective existing TBI surveillance system whose methods, including case definitions, are consistent with CDC Guidelines, with demonstrated timeliness of case ascertainment, completeness of case ascertainment, and ability to analyze data. The extent to which the applicant provides evidence of successful TBI surveillance activities, including:

a. a summary of current (i.e., 1998 or 1999) TBI morbidity and mortality data analyzed by age, sex, and cause;

b. an evaluation of TBI surveillance data quality (e.g., predictive value positive, completeness, timeliness).

3. Goals and Objectives: (10 Points)

The extent to which objectives are specific, achievable, practical, measurable, time-linked, and consistent with the overall purposes described in this announcement.

4. Methods and Activities: (35 Points)

The extent to which the proposed methods and activities can achieve the proposed objectives, consistent with the purposes of this announcement. The extent to which clear explanations of appropriate methods addressing case ascertainment and data collection, TBI case definition(s), data elements, sources and availability of data, protection of confidentiality, and data processing and analysis.

5. Management and Staffing: (20 Points)

The extent to which the staffing plan indicates the applicant's ability to carry out the objectives of the program. Considerations include: organizational structure, staff qualifications, experience, degree of stability maintaining current staff in critical positions, identified training needs or plan, and job descriptions and curricula vitae for both proposed and current staff. Also, the extent to which the applicant plans to coordinate activities with any other injury surveillance, prevention, and control programs or activities in the applicant's organizations.

6. Evaluation: (10 Points)

The degree to which the applicant includes plans to evaluate the attainment of proposed objectives, including plans to evaluate the sensitivity and predictive value positive of case ascertainment and the completeness and quality of data.

7. Budget and Justification: (Not Scored)

The extent to which the budget is reasonable, clearly justified, and consistent with stated objectives and proposed activities.

Part B will be evaluated and scored according to the following criteria:

1. Existing Capacity for Enhanced TBI Surveillance: (30 Points)

The extent to which the applicant demonstrates appropriate existing capacity to collect and analyze optional data (e.g., describing TBI severity, circumstances, and early outcome) from a representative sample of cases reported to the TBI surveillance system.

2. Methods for Enhanced TBI Surveillance: (70 Points)

The extent to which the applicant proposes appropriate methods and activities to collect and analyze optional data consistent with the Program Requirements for Part B, including sampling methods and proposed staffing.

3. Budget and Justification: (Not Scored)

The extent to which the budget is reasonable, clearly justified, and consistent with stated objectives and proposed activities.

H. Other Requirements

Technical Reporting Requirements

Provide CDC with original plus 2 copies of:

1. Semi-annual progress reports.

2. Financial status report, no more than 90 days after the end of the budget period.

3. Final financial and performance reports, no more than 90 days after the end of the project period.

Send all reports to the Grants Management Specialist identified in the “Where to Obtain Additional Information” section of this announcement.

For descriptions of the following Other Requirements, see Attachment I in the application package:

AR-7—Executive Order 12372 Review

AR-9—Paperwork Reduction Act Requirements

AR-10—Smoke-Free Workplace Requirements

AR-11—Healthy People 2010

AR-12—Lobbying Restrictions

AR-13—Prohibition on Use of CDC Funds for Certain Gun Control Activities

AR-21—Small, Minority, and Women-Owned Businesses

I. Authority and Catalog of Federal Domestic Assistance Number

This program is authorized under sections 301(a), 317(k)(2), 391, 392, 393A, 394, and 394A [42 U.S.C. 241(a), 247b(k)(2), 280b, 280b-1, 280b-2, 280b-3] of the Public Health Service Act, as amended. The Catalog of Federal Domestic Assistance number is 93.136.

J. Where To Obtain Additional Information

This and other CDC announcements are available through the CDC home page on the Internet at: http://www.cdc.gov. To receive additional written information and to request an application kit, call 1-888-GRANTS4 (1-888 472-6874). You will be asked to leave your name and address, and will be instructed to identify the announcement number of interest.

If you have questions after reviewing the contents of all the documents, business management assistance may be obtained from: Angie Nation, Grants Management Specialist, Announcement #01030, Grants Management Branch, Procurement and Grants Office, Centers for Disease Control and Prevention, 2920 Brandywine Road, Suite 3000, Atlanta, GA 30341-4146, Telephone number (770) 488-2719, Email address: aen4@cdc.gov.

For program technical assistance, contact: Renee Johnson, MSPH, CDC National Center for Injury Prevention and Control, 4770 Buford Highway, NE, Mailstop F41, Atlanta, GA 30341-3724, Telephone (770) 488-4031, Email address: nba7@cdc.gov.

For a copy of the CDC Guidelines for Central Nervous System Injury Surveillance, contact: Patricia Allen, CDC National Center for Injury Prevention and Control, 4770 Buford Highway, NE, Mailstop F41, Atlanta, GA 30341-3724, Telephone (770) 488-4031, Email address: pca9@cdc.gov.

CDC does not guarantee to accept or justify its nonacceptance of recommendations that are received more than 60 days after the application deadline.

Dated: February 23, 2001.
John L. Williams,
Director, Procurement and Grants Office, Centers for Disease Control and Prevention (CDC).

[FR Doc. 01-4937 Filed 2-28-01; 8:45 am]

BILLING CODE 4163-18-P